DEPARTMENT OF THE INTERIOR

Bureau of Land Management

[NM-910-05-0777-XX]

Notice of Public Meeting, New Mexico Resource Advisory Council Meeting

AGENCY: Bureau of Land Management, Department of the Interior.

ACTION: Notice of public meeting.

SUMMARY: In accordance with the Federal Land Policy and Management Act and the Federal Advisory Committee Act of 1972, the U.S. Department of the Interior, Bureau of Land Management, New Mexico Resource Advisory Council (RAC) will meet as indicated below.

DATES: The meeting dates are April 13-14, 2005, at the Sally Port Inn, 200 North Main, Roswell, New Mexico. An optional field trip is planned for Tuesday, April 12, 2005. The public comment period is scheduled for April 12, 2005, from 6-7 p.m. at the Sally Port Inn. The public may present written comments to the RAC. Depending on the number of individuals wishing to comment and time available, oral comments may be limited. The three established RAC working groups may have a late afternoon or an evening meeting on Wednesday, April 13, 2005.

SUPPLEMENTARY INFORMATION: The 15-member RAC advises the Secretary of the Interior, through the Bureau of Land Management, on a variety of planning and management issues associated with public land management in New Mexico. All meetings are open to the public. At this meeting, topics include issues on renewable and nonrenewable resources.

FOR FURTHER INFORMATION CONTACT: Theresa Herrera, New Mexico State Office, Office of External Affairs, Bureau of Land Management, P.O. Box 27115, Santa Fe, New Mexico 87502-0115, (505) 438-7517.

Dated: February 23, 2005.
Linda S.C. Rundell,
State Director.

[FR Doc. 05-4067 Filed 3-2-05; 8:45 am]

BILLING CODE 4310-FB-P